DEPARTMENT OF COMMERCE

National Oceanic and Atmospheric Administration

[RTID 0648-XB603]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a Stock Assessment Review (STAR) Panel meeting to review the 2021 central subpopulation of northern anchovy (CSNA) stock assessment. The meeting will be co-hosted by the NOAA Southwest Fisheries Science Center.

DATES: The online meeting will be held Tuesday, December 7, through Friday, December 10, 2021. The meeting will begin each day at 8:30 a.m. Pacific Standard Time and will continue until 5 p.m. or until business for the day has been completed.

ADDRESSES: This meeting will be held online. Specific meeting information, including directions on how to join the meeting and system requirements will be provided in the meeting announcement on the Pacific Council's website (see www.pcouncil.org). You may contact Mr. Dale Sweetnam (dale.sweetnam@noaa.gov; (858) 546-7170).

Council address: Pacific Fishery Management Council, 7700 NE Ambassador Place, Suite 101, Portland, OR 97220-1384.

FOR FURTHER INFORMATION CONTACT: Kerry Griffin, Staff Officer, Pacific Council; telephone: (503) 820-2409.

SUPPLEMENTARY INFORMATION: The primary purpose of the meeting is to provide technical review of the CSNA stock assessment. The review panel will consist of at least three members of the Pacific Council's Scientific and Statistical Committee's Subcommittee on Coastal Pelagic Species (CPS), and at least two independent experts from the Center for Independent Experts. Representatives of the Pacific Council's CPS Management Team and the CPS Advisory Subpanel will also participate in the review as advisers.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Dale Sweetnam (dale.sweetnam@noaa.gov; (858) 546-7170) at least 10 days prior to the meeting date.

(Authority: 16 U.S.C. 1801 et seq.)

Dated: November 17, 2021.
Tracey L. Thompson,
Acting Deputy Director, Office of Sustainable Fisheries, National Marine Fisheries Service.

[FR Doc. 2021-25398 Filed 11-19-21; 8:45 am]

BILLING CODE 3510-22-P